DEPARTMENT OF COMMERCE

International Trade Administration

[A-533-843]

Certain Lined Paper Products From India: Final Results of Antidumping Duty Administrative Review and Final Determination of No Shipments; 2017-2018

AGENCY: Enforcement and Compliance, International Trade Administration, Department of Commerce.

SUMMARY: The Department of Commerce (Commerce) determines that Navneet Education Ltd. (Navneet) made sales of certain lined paper products (CLPP) from India below normal value (NV), and SAB International (SAB) did not, during the period of review (POR) September 1, 2017 through August 31, 2018.

DATES: Applicable April 7, 2020.

FOR FURTHER INFORMATION CONTACT: Samuel Brummitt (for Navneet) and Cindy Robinson (for SAB), AD/CVD Operations, Office III, Enforcement and Compliance, International Trade Administration, U.S. Department of Commerce, 1401 Constitution Avenue NW, Washington, DC 20230; telephone: (202) 482-7851 or (202) 482-3797, respectively.

SUPPLEMENTARY INFORMATION:

Background

Commerce published the Preliminary Results on November 14, 2019.¹ On February 28, 2020, Commerce extended the deadline for these final results until May 12, 2020.² For a complete description of events that occurred since the Preliminary Results, see the Issues and Decision Memorandum.³

¹ See Certain Lined Paper Products from India: Preliminary Results of Antidumping Duty Administrative Review, Preliminary Determination of No Shipments; 2017-2018, 84 FR 61887 (November 14, 2019) (Preliminary Results), and accompanying Preliminary Decision Memorandum.

² See Memorandum, “Certain Lined Paper Products from India: Extension of Time Limit for Final Results of Antidumping Duty Administrative Review: 2017-2018,” dated February 28, 2020.

³ See Memorandum, “Certain Lined Paper Products from India: Issues and Decision Memorandum for the Final Results of Antidumping Duty Administrative Review; 2017-2018,” dated concurrently with, and hereby adopted by, this notice (Issues and Decision Memorandum).

Scope of the Order

The merchandise covered by the order is certain lined paper products from India. For a complete description of the scope of this order, see the Issues and Decision Memorandum.

Final Determination of No Shipments

In the Preliminary Results, we preliminarily found that Lodha Offset Limited, Pioneer Stationery Private Limited, and Marisa International had no shipments of subject merchandise during the POR. Following the publication of the Preliminary Results, we received no comments from interested parties regarding these companies, nor has any party submitted record evidence which would call our preliminary determination of no shipments into question. Therefore, for the final results, we continue to find that these three companies had no shipments of subject merchandise during the POR. Accordingly, consistent with Commerce's practice, we intend to instruct U.S. Customs and Border Protection (CBP) to liquidate any existing entries of merchandise produced by these three companies, but exported by other parties, at the rate for the intermediate reseller, if available, or at the all-others rate.⁴

⁴ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Analysis of Comments Received

All issues raised in the case and rebuttal briefs by interested parties are addressed in the Issues and Decision Memorandum. The list of issues that interested parties raised, and to which we responded in the Issues and Decision Memorandum, are identified in the appendix to this notice. The Issues and Decision Memorandum is a public document and is on file electronically via Enforcement and Compliance's Antidumping and Countervailing Duty Centralized Electronic Service System (ACCESS). ACCESS is available to registered users at https://access.trade.gov, and to all parties in the Central Records Unit (CRU), Room B8024 of the main Commerce building. In addition, a complete version of the Issues and Decision Memorandum can be accessed at http://enforcement.trade.gov/frn/index.html. The signed and electronic versions of the Issues and Decision Memorandum are identical in content.

Changes Since the Preliminary Results

Based on a review of the record and comments received from interested parties regarding our Preliminary Results, we made certain revisions to the preliminary margin calculations for Navneet and SAB.⁵ For Navneet, we used Navneet's comparison market sales to calculate NV rather than relying on constructed value.⁶ For SAB, we (1) revised SAB's rent payment to an affiliated party; (2) recalculated SAB's reported scrap offset, and (3) reversed the incorrect conversion for credit expenses from positive to negative.⁷

⁵ See Issues and Decision Memorandum.

⁶ See Memorandum, “Certain Lined Paper Products from India (2017-2018): Sales and Cost of Production Calculation Memorandum for the Final Results of Navneet Education Limited (Navneet),” dated concurrently with this notice.

⁷ See Memorandum, “Certain Lined Paper Products from India (2017-2018): Sales and Cost of Production Calculation Memorandum for the Final Results of SAB International (SAB),” dated concurrently with this notice.

Final Results of the Review

We have determined the following weighted-average dumping margins for the exporters or producers listed below for the POR: ⁸

⁸ For the companies that were not selected for individual review, we assigned a rate based on the rates for the respondents that were selected for individual review, excluding any rates that are zero, de minimis, or based entirely on facts available. See section 735(c)(5)(A) of the Tariff Act of 1930, as amended (the Act).

Producer/exporter | Weighted- average dumping margin (percent)
Cellpage Ventures Private Limited | 1.93
Goldenpalm Manufacturers PVT Limited | 1.93
Kokuyo Riddhi Paper Products Pvt. Ltd | 1.93
Lotus Global Private Limited | 1.93
Magic International Pvt. Ltd | 1.93
Navneet Education Ltd | 1.93
PP Bafna Ventures Private Limited | 1.93
SAB International | 0.00
SGM Paper Products | 1.93
Super Impex | 1.93

Disclosure

We intend to disclose the calculations performed in connection with these final results within five days after publication of these final results in the Federal Register, in accordance with 19 CFR 351.224(b).

Assessment Rates

Pursuant to section 751(a)(2)(A) of the Act, and 19 CFR 351.212(b)(1), Commerce will determine, and CBP shall assess, antidumping duties on all appropriate entries of subject merchandise in accordance with the final results of this review. For any individually-examined respondent whose weighted-average dumping margin is above de minimis (i.e., 0.50 percent), Commerce will calculate importer-specific assessment rates on the basis of the ratio of the total amount of antidumping duties calculated for each importer's examined sales and the total entered value of the sales, in accordance with 19 CFR 351.212(b)(1). Where either a respondent's weighted-average dumping margin is zero or de minimis, or an importer- or customer-specific ad valorem rate is zero or de minimis, we will instruct CBP to liquidate appropriate entries without regard to antidumping duties.

For entries of subject merchandise during the POR produced by each respondent for which it did not know its merchandise was destined for the United States, we will instruct CBP to liquidate such entries at the all-others rate if there is no rate for the intermediate company(ies) involved in the transaction. As indicated above, for the companies that had no shipments of subject merchandise during the POR, we will instruct CBP to liquidate any existing entries of merchandise produced by these companies, but exported by other parties, at the all-others rate if there is no rate for the intermediate company(ies) involved in the transaction. We intend to issue liquidation instructions to CBP 15 days after publication of the final results of this review.

Cash Deposit Requirements

The following cash deposit requirements will be effective upon publication of the notice of final results of administrative review for all shipments of subject merchandise entered, or withdrawn from warehouse, for consumption on or after the date of publication, as provided by section 751(a)(2)(C) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 3.91 percent, the all-others rate established in the less-than-fair-value investigation.⁹ These cash deposit requirements, when imposed, shall remain in effect until further notice.

⁹ See Notice of Amended Final Determination of Sales at Less Than Fair Value: Certain Lined Paper Products form the People's Republic of China; Notice of Antidumping Duty Orders: Certain Lined Paper Products from India, Indonesia and the People's Republic of China; and Notice of Countervailing Duty Orders: Certain Lined Paper Products from India and Indonesia, 71 FR 56949, 56952 (September 28, 2006).

Notification to Importers

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i) of the Act, and 19 CFR 351.221(b)(5).

Dated: April 1, 2020.
Jeffrey I. Kessler,
Assistant Secretary for Enforcement and Compliance.

Appendix

List of Topics Discussed in the Final Decision Memorandum

I. Summary

II. List of Comments

III. Background

IV. Scope of the Order

V. Changes Made Since the Preliminary Results

VI. Analysis of Comments

Comments Concerning Navneet Education Ltd. (Navneet)

Comment 1: Whether Commerce Should Apply Total or Partial Adverse Facts Available (AFA) to Navneet

Comment 2: Whether Commerce Should Adjust Navneet's General and Administrative Expenses

Comment 3: Whether Commerce Should Adjust the SAS Programs to Use Navneet's Comparison Market Sales for Normal Value (NV) Instead of Constructed Value (CV)

Comments Concerning SAB International (SAB)

Comment 4: Whether Commerce Should Apply Total or Partial AFA to SAB's Classification of Certain Sales as Canadian Sales Rather than U.S. Sales

Comment 5: Whether Commerce Should Adjust SAB's Calculations of Rent Paid to an Affiliated Party

Comment 6: Whether Commerce Should Recalculate SAB's Reported Scrap Offset

Comment 7: Whether Commerce Should Adjust SAB's Treatment of Certain Costs

Comment 8: Whether Commerce Incorrectly Converted Negative Credit Expenses into Positive Credit Expenses

VII. Recommendation

[FR Doc. 2020-07312 Filed 4-6-20; 8:45 am]

BILLING CODE 3510-DS-P